DEPARTMENT OF HEALTH AND HUMAN SERVICES

Centers for Disease Control and Prevention

[Program Announcement 01073]

Fetal Alcohol Syndrome Awareness and Education Project; Notice of Availability of Funds

A. Purpose

The Centers for Disease Control and Prevention (CDC) announces the availability of fiscal year (FY) 2001 funds for a cooperative agreement program for a Fetal Alcohol Syndrome (FAS) Awareness and Education Project. This program addresses the “Healthy People 2010” focus areas of Substance Abuse, and Maternal, Infant, and Child Health. The purpose of the program is to develop, implement, and evaluate materials to educate parents and professionals working in public health service agencies, social service agencies, and school systems about FAS and how to secure access to appropriate diagnostic and treatment services for affected children and their families.

B. Eligible Applicants

Applications may be submitted by public and private nonprofit organizations and by governments and their agencies; that is, universities, colleges, research institutions, hospitals, other public and private nonprofit organizations, State and local governments or their bona fide agents including Puerto Rico, Virgin Islands, the Commonwealth of Northern Mariana Islands, American Samoa, Guam, the Federated States of Micronesia, the Republic of the Marshall Islands, and the Republic of Palau, and federally recognized Indian tribal governments, Indian tribes, or Indian tribal organizations.

Note: Title 2 of the United States Code, Chapter 26, Section 1611 states that an organization described in section 501(c)(4) of the Internal Revenue Code of 1986 that engages in lobbying activities is not eligible to receive Federal funds constituting an award, grant, cooperative agreement, contract, loan or any other form.

C. Availability of Funds

Approximately $500,000 is available in FY 2001 to fund approximately 2 to 4 awards. It is expected that the average award will be $100,000, ranging from $75,000 to $200,000. It is expected that the awards will begin on or about September 30, 2001, and will be made for a 12-month budget period within a project period of up to three years. Funding estimates may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Develop, implement and evaluate an educational curricula for training parents, public health service providers, and/or teachers in primary and secondary schools that includes, but is not limited to, the following:

1. A description of FAS, including salient physical, neurodevelopmental, and behavioral characteristics of children with FAS.

2. An overview of other prenatal alcohol-related conditions and disorders.

3. Essential components of the care of children with FAS and other prenatal alcohol-related effects from the family, medical, social, and educational perspective including diagnosis and treatment services for the child and support services for the family.

4. Instructions for parents and other client-advocates in how to research local and State resource providers to gain assistance in identifying appropriate diagnostic, treatment, and educational services.

5. Descriptions of family stresses experienced, factors that increase the risks of family disintegration, and approaches to enhancing family coping and survival.

6. Instructions for organizing FAS parents' support groups at the community level.

b. Develop a quantitative and qualitative process to be used in identifying the relevant content of the training (i.e., focus groups, participant surveys, etc).

c. Develop and implement evaluation of the impact of the proposed curricula and its components in a variety of settings including special targeted sessions as well as State and local conferences and/or workshops (i.e., through partnerships with university-based researchers).

2. CDC Activities

a. Assist, if necessary, in the development of the training curricula through review, comment and facilitation of communications with other CDC grantees funded for similar projects.

b. Review and comment, if necessary, on the training curricula and plans for evaluation initially and on at least an annual basis until the project is completed.

E. Application Content

a. General Instructions

Use the information in the Program Requirements, Other Requirements, and Evaluation Criteria sections to develop the application content. Your application will be evaluated on the criteria listed, so it is important to follow them in laying out your program plan. The narrative should be no more than 25 double-spaced pages, printed on one side, with one inch margins, and unreduced font. Do not include any spiral or bound materials or pamphlets.

b. Specific Instructions

Abstract: A one-page single-spaced, typed abstract must be submitted with the application. The heading should include the title of the grant program, project title, organization name and address, project director and telephone number. The abstract should briefly summarize the program for which funds are requested, the activities to be undertaken, and the applicant's organization and composition. The abstract should follow the printed forms and precede the Program Narrative. Program Narrative (not to exceed 25 pages). The Program Narrative Section should address the following:

1. Background: Briefly describe:

a. Understanding of the problem of FAS, the impact on the family and other care givers, and the challenges of accessing appropriate diagnostic and treatment services for the affected child as well as the need for support services for the families.

b. Project purpose and long-term and short-term objectives.

c. Designation and description of at least two primary target populations (i.e., parents, teachers, social workers, public health nurses) including geographic areas to be served.

2. Organization: Briefly describe:

a. How the applicant will access proposed target populations including institutions, agencies, and organizations to be contacted for participation.

b. Existing interactions with these groups and other collaborative activities in which the applicant has participated with them, including information on any statistics available for the demographics of the target population and geographic region to be covered.

c. Documentation of previous success in developing and evaluating curricula, as well as educating and training individuals in the area of FAS and other alcohol-related disorders should be included. In addition, the applicant should describe any previous instruction activities developed and conducted for parents and other client-advocates in how to research local and State resources providers to gain assistance in identifying appropriate diagnostic, treatment, and educational services.

d. Proposed organizational structure for implementing the project, including clear lines of authority and responsibility. Staff should include a project coordinator who oversees all activities including development and evaluation of the training program.

e. Existing or planned collaborations with research or academic institutions for assistance in project development, implementation, and evaluation.

f. A plan for inclusion of both sexes, racial, ethnic, and cultural considerations in selection of target populations and development of the training program.

3. Capacities: Describe the capacity and experience of the applicant and the clinical/agency site(s) in which the project activities will be conducted including:

a. Description of any previous experience in development, evaluation, and conducting training programs addressing FAS and other prenatal alcohol-related conditions.

b. Description of the setting(s) in which the training programs will occur and description of the designated office and operating space for the project.

c. Proposed time-line for conducting first year project activities, and brief overview of subsequent year's activities.

4. Approach:

a. Describe, in summary, the approach to be taken by the applicant in implementing this project including identification of appropriate staff to perform essential project activities, recruitment of participants, delivery of the training, evaluation, and follow-up activities with participants.

5. Assurances: The applicant must provide the following:

a. Assurance that project staff will be hired in a timely manner.

b. Assurance that key staff will meet with CDC in Atlanta within 3 months of the award to discuss initial study activities.

6. Budget and Line-Item Justification: This section must include a detailed first-year budget and narrative justification with future annual projections. The applicant should describe in detail the program purpose for each budget item. For contracts contained within the application budget, applicants should name the contractor, if known; describe the services to be performed; justify the use of a third party; and provide a breakdown of and justification for the estimated costs of the contracts, the kinds of organizations or parties to be solicited, the period of performance, and the method of selection.

Budget should include travel for at least 2 key study personnel to meet 3 times per year with CDC.

F. Submission and Deadline

Application

Submit an original and two copies of PHS 5161-1 (OMB Number 0937-0189). Forms are available at the following Internet address: www.cdc.gov/od/pgo/forminfo.htm or in the application kit.

On or before June 29, 2001, submit the application to the Grants Management Specialist identified in the “Where to Obtain Additional Information” section of this announcement.

Deadline:

Applications shall be considered as meeting the deadline if they are either:

(1) Received on or before the deadline date; or

(2) Sent on or before the deadline date and received in time for submission to the independent review group.

Applicants must request a legibly dated U.S. Postal Service postmark or obtain a legibly dated receipt from a commercial carrier or U.S. Postal Service. Private metered postmarks shall not be acceptable as proof of timely mailing.

Late Applications: Applications which do not meet the criteria in (1) or (2) above are considered late applications, will not be considered, and will be returned to the applicant.

G. Evaluation Criteria

Each application will be evaluated individually against the following criteria by an independent review group appointed by CDC.

1. Applicant's Understanding of the Problem (25 Percent)

a. The extent to which the applicant demonstrates an understanding of the problem of FAS and other prenatal alcohol-related developmental disorders, maternal risk factors contributing to harmful alcohol use during pregnancy, and basic and unique physical, neurodevelopmental, and behavioral needs of affected children and their families.

b. A demonstrated understanding of the care and parenting issues related to rearing children with FAS and other prenatal alcohol-related disorders including the perspective of the family, medical professionals, social and educational service providers.

c. A demonstrated understanding of family stressors and risk factors for family disintegration and development of secondary conditions among affected individuals.

d. A demonstrated understanding of related, community-based family and children's services (physical and mental health, social services, and special education services) as well as needed services which may not always be addressed by community-based agencies (e.g., diagnostic/referral resources hotline and family support groups).

2. Description of the Target Populations and Outline of Approach (45 Percent)

a. The extent to which the applicant has provided a full and comprehensive description of the project they propose to undertake and a plan for how it will be accomplished.

b. The extent to which the applicant outlines the proposed content of the curricula to be developed (e.g., instructing parents or other client-advocates in researching and accessing resources and/or services) as well as the quantitative and qualitative process for development of curricula (e.g., focus groups, participant surveys, or other).

c. The extent to which the applicant adequately describes methods for evaluation of the effectiveness of the curricula (e.g., focus groups, changes in knowledge or attitudes, or other), and dissemination of curricula materials (e.g., through parent organization or public health departments, or other).

d. The extent to which the applicant describes at least two target populations (i.e., parents, teachers, social workers, public health professionals) for which curricula will be developed, implemented, and evaluated. Consideration of multiple approaches for reaching targeted groups depending on their needs and constraints (i.e., time, transportation, tuition funding for conferences) must be described.

e. The degree to which the applicant has provided consideration of the needs for diverse racial, ethnic, and cultural groups in terms of inclusion in the targeted populations, and development of appropriate curriculum content.

f. Demonstration of how the project will establish partnerships with public health and social services agencies, schools, and other appropriate agencies, institutions, and organizations.

3. Capacity To Conduct Project Activities (30 Percent)

a. The extent to which the applicant demonstrates the ability to conduct the activities of the cooperative agreement.

b. Demonstrated ability to assist families and service providers in identifying needed FAS resources locally and regionally, including efforts to instruct parents in organizing support groups at the community level, or in accessing services at the community level.

c. Demonstrated ability to access targeted groups to successfully organize and evaluate workshops and conferences in the area of FAS and other prenatal alcohol-related disorders, as well as outline a dissemination plan for developed materials.

d. Demonstrated ability to identify qualified personnel to fill key positions on the project, identify adequate office space for the project as well as facilities for conducting training or educational sessions.

e. Extent to which the applicant demonstrates the ability to begin activities in a timely fashion and to present a feasible time-line for conducting first year project activities, and presenting a brief overview of activities for subsequent years.

4. Budget Justification and Adequacy of Facilities (Not Scored)

The budget will be evaluated for the extent to which it is reasonable, clearly justified, and consistent with the intended use of the cooperative agreement funds.

H. Other Requirements

Technical Reporting Requirements

Provide CDC with original plus two copies of:

1. semiannual progress reports;

2. financial status report, no more than 90 days after the end of the budget period; and

3. final financial and performance report, no more than 90 days after the end of the project period.

Send all reports to the Grants Management Specialist identified in the “Where to Obtain Additional Information” section of this announcement.

The following additional requirements are applicable to this program. For a complete description of each, see Attachment I of application kit.

AR-7—Executive Order 12372 Review

AR-9—Paperwork Reduction Act Requirements

AR-10—Smoke-Free Workplace Requirements

AR-11—Healthy People 2010

AR-12—Lobbying Restrictions

AR-14—Accounting System Requirements

AR-15—Proof of Non-Profit Status

I. Authority and Catalog of Federal Domestic Assistance Number

This program is authorized under sections 301 and 317 of the Public Health Service Act, 42 U.S.C. sections 241 and 247b, as amended. The Catalog of Federal Domestic Assistance number is 93.283.

J. Where to Obtain Additional Information

This and other CDC announcements can be found on the CDC home page Internet address— http://www.cdc.gov Click on “Funding” then “Grants and Cooperative Agreements.”

To receive additional written information and to request an application kit, call 1-888-GRANTS4 (1-888 472-6874). You will be asked to leave your name and address and will be instructed to identify the Announcement number of interest.

If you have questions after reviewing the contents of all the documents, business management technical assistance may be obtained from: Virginia Hall-Broadnax, Grants Management Specialist, Grants Management Branch, Procurement and Grants Office, Centers for Disease Control and Prevention, 2920 Brandywine Road, Suite 3000, (E-13), Atlanta, GA 30341-4146, Telephone number: (770) 488-2710, Email address: vdh2@cdc.gov

For program technical assistance, contact: Dr. Louise Floyd, (770) 488-7372; Email address: rlf3@cdc.gov,

or

Connie Granoff, (770) 488-7513; Email address: clg4@cdc.gov, Division of Birth Defects, Child Development, and Disability and Health, National Center for Environmental Health. Centers for Disease Control and Prevention, 4770 Buford Highway, (F-49), Atlanta, Georgia 30341-3724.

Dated: May 2, 2001.
John L. Williams,
Director, Procurement and Grants Office Centers for Disease Control and Prevention (CDC).

[FR Doc. 01-11510 Filed 5-7-01; 8:45 am]

BILLING CODE 4163-18-P